Proclamation 10561 of April 28, 2023

National Building Safety Month, 2023

By the President of the United States of America

A Proclamation

Modern building codes help to ensure that our homes, schools, workplaces, and gathering spots are safely constructed and secure, keeping the power on, our country strong, and our lives moving forward. During National Building Safety Month, we recommit to helping every community in America make all of its structures safer, more sustainable, and more resilient for the future.

From planning and design to construction and renovation, many buildings are safer today than they were decades ago. But nearly two-thirds of Americans live in communities that have not yet adopted the latest building codes, which are designed to avoid damages and keep emerging threats like climate change from further devastating communities with increasingly powerful fires, floods, and storms. We need to do more to help everyone prepare for and prevent disasters; to promote building safety; and to support our too-often overlooked engineers, construction workers, and code enforcement inspectors, who do so much every day to keep Americans safe.

My Administration has taken major steps in that direction. Last year, we launched a new National Initiative to Advance Building Codes, designed to help State, local, Tribal, and territorial governments adopt the latest building standards. With our once-in-a-generation infrastructure law, we are rebuilding the Nation's roads, bridges, ports, water systems, and more; we are investing over $50 billion to weatherize American homes and to help protect communities against droughts, heat, and floods; and we are replacing toxic lead pipes in 10 million homes and 400,000 schools or child care centers so every American can turn on the faucet and drink clean water. We are also investing in training workers to meet and enforce new standards.

The Inflation Reduction Act, meanwhile, is America's biggest-ever investment in fighting climate change, providing $1 billion to help States and localities adopt building energy codes that reduce greenhouse gas emissions. It invests another nearly $1 billion to improve energy efficiency and indoor air quality in federally-supported housing and make these properties more resilient to climate impacts. At the same time, the Federal Emergency Management Agency has helped rebuild communities devastated by floods, fires, tornadoes, and hurricanes while incentivizing the use of low-carbon materials when rebuilding. Across the board, we have committed to sending 40 percent of the benefits of certain Federal investments—including investments in clean energy, energy efficiency, affordable housing, and pollution reduction—to disadvantaged communities, which too often have been left out and left behind.

Regularly-updated building codes and tough enforcement are key to safety—but we can each do our part to build a stronger, more resilient America. To keep your homes safe, we urge all Americans to change the batteries in your smoke alarms; to regularly check that your appliances, vents, plumbing, and electrical systems are working; and to keep an eye out for mold and pests that can make loved ones sick. If you live in wildfire country, find time to clear the leaves and debris from around your home. While there are few things more proudly American than do-it-yourself renovations, make sure your work is in line with local requirements designed to save lives or hire qualified contractors to do it for you. Finally, we urge everyone to support their local code enforcement inspectors and to give them the respect and thanks they deserve for keeping us safe and making all our communities more resilient.

NOW, THEREFORE, I, JOSEPH R. BIDEN JR., President of the United States of America, by virtue of the authority vested in me by the Constitution and the laws of the United States, do hereby proclaim May 2023 as National Building Safety Month. I encourage citizens, government agencies, businesses, nonprofits, and other interested groups to join in activities that raise awareness about building safety. I also call on all Americans to learn more about how they can contribute to building safety at home, at work, and in their communities.

IN WITNESS WHEREOF, I have hereunto set my hand this twenty-eighth day of April, in the year of our Lord two thousand twenty-three, and of the Independence of the United States of America the two hundred and forty-seventh.

[FR Doc. 2023-09527

Filed 5-2-23; 8:45 am]

Billing code 3395-F3-P